DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: June 26, 2002—9 a.m.-6 p.m.; June 27, 2002—10 a.m.-2 p.m.

Place: The Wyndham City Center Hotel, 1143 New Hampshire Avenue, NW., Washington, DC 20037.

Status: Open.

Purpose: At this meeting the Committee will hear presentations and hold discussions on several health data policy topics. On the first day the full Committee will be briefed by HHS staff on a number of topics including an update on activities of the HHS Data Council; Departmental responses to recent reports and recommendations from the Committee; and the status of implementation of the administrative simplification provisions of the Health Insurance Portability and Accountability Act of 1996 (HIPAA) including the status of privacy and data standards regulations. The Committee will hear a presentation on the Consolidated Health Informatics E-government Initiative and from a panel on recent activities in the healthcare quality area. The Committee will also vote on approval for its 5th annual report to Congress on the implementation of HIPAA administrative simplification provisions, the adoption of a plan for Heath Statistics in the 21st Century, and draft recommendations for code sets. There will be Subcommittee breakout sessions late in the afternoon of the first day and prior to the full Committee meeting on the second day. Agendas for these breakout sessions may be found on the NCVHS Web site (URL below).

On the second day the full Committee will hear from the General Accounting Office on a study on linking records and privacy. Later in the day members will hear reports from the Subcommittees and Workgroups on their activities. Finally, the agendas for future NCVHS meetings will be discussed.

For Further Information Contact: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS Web site http://www.ncvhs.hhs.gov/, where further information including an agenda will be posted when available.

Dated: May 4, 2002.
James Scanlon,
Director, Division of Data Policy, Office of the Assistant Secretary for Planning and Evaluation.

[FR Doc. 02-14702 Filed 6-11-02; 8:45 am]

BILLING CODE 4151-05-M